DEPARTMENT OF COMMERCE

National Oceanic and Atmospheric Administration

[I.D. 102306F]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held November 13-17, 2006.

ADDRESSES: These meeting will be held at the San Luis Resort, 5222 Seawall Blvd., Galveston, TX 77550.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, November 15, 2006

8:30 a.m.

The Council will begin to review the agenda, minutes, and appointment of members to management committees.

9:15 a.m.-9:30 a.m.—Public Testimony on Exempted Fishing Permits (EFPs), if any.

9:30 a.m.-10 a.m.—A summary of the National Marine Fisheries Service's (NMFS) Recreational Data Workshop will be discussed.

10 a.m.-10:30 a.m.—A presentation will be made on the Flower Garden Banks Sanctuary Proposed Management Program.

The Council will then review and discuss reports from the previous two day's committee meetings as follows:

10:30 a.m.-11 a.m.—Joint Reef Fish/Shrimp Management;

11 a.m.-12 noon—Mackerel Management;

1:30 p.m.-1:45 p.m.—Shrimp Management;

1:45 p.m.-2 p.m.—Joint Reef Fish/Mackerel/Red Drum Management;

2 p.m.-2:30 p.m.—Red Drum Management;

2:30 p.m.-2:45 p.m.—Administrative Policy;

2:45 p.m.-3 p.m.—Habitat Protection; and

3 p.m.-3:15 p.m.—Budget/Personnel.

3:15 p.m.-5:15 p.m.—The Council will hold an Open Public Comment Period regarding any fishery issue or concern. People wishing to speak before the Council should complete a public comment card prior to the comment period.

Thursday, November 16, 2006

8:30 a.m.-9:30 a.m.—The Council will convene in Closed Session to discuss budget, personnel, and panel member selections.

The Council will then resume in an open session and continue to review the following committee reports:

9:30 a.m.-10:30 a.m.—Reef Fish Management; and

10:30 a.m.-10:45 a.m.—Law Enforcement.

10:45 a.m.-12 noon—The Council will conclude its meeting by receiving reports from the Gulf states, NMFS, Fish and Wildlife Service, and others; as well as discussion of other business items.

Committees

Monday, November 13, 2006

9 a.m.-11:30 a.m.—Conduct an Orientation Session for new Council members.

1 p.m.-4:30 p.m.—The Reef Fish Management Committee will meet to review the Socioeconomic Panel's (SEP) recommendation on Reef Fish Amendment 28 (Grouper Allocation). The Committee will receive updates on Reef Fish Amendment 29 (Grouper Individual Fishing Quota (IFQ)), Reef Fish Amendment 26 (Red Snapper IFQ), and the red snapper IFQ outreach workshops. The Committee will review scoping options for an amendment to potentially modify regulations for gag, greater amberjack, gray triggerfish, and vermilion snapper. The Southeast Fishery Science Center (SEFSC) and the Southeast Data, Assessment, and Review (SEDAR) recommendations for goliath grouper will be presented to the Committee, and a discussion will be held regarding the pending vessel monitoring system (VMS) requirements for commercial reef fish vessels. Finally, the committee will address implementing the outreach program on turtle/sawfish conservation under Reef Fish Amendment 18A.

4:30 p.m.-5:30 p.m.—The Joint Reef Fish/Shrimp Management Committee will meet to receive an update on the Draft Environmental Impact Statement (DEIS) for the Interim Rule for red snapper/shrimp, and the status of the Interim Rule. They will also review the Scientific and Statistical Committee's (SSC) recommendations on the reliability of the Marine Recreational Fisheries Statistical Survey (MRFSS).

Tuesday, November 14, 2006

8:30 a.m.-9:30 a.m.—The Reef Fish Management Committee will reconvene to finish discussions from the previous day.

9:30 a.m.-10:30 a.m.—The Habitat Protection Committee will meet to discuss recommendations made by the Texas Habitat Protection Advisory Panel (AP) and the Mississippi/Louisiana Habitat AP.

10:30 a.m.-11:30 p.m.—The Shrimp Management Committee will meet to receive a report of the Ad Hoc Shrimp Effort Working Group. The committee will also discuss scheduling meetings of the Ad Hoc Shrimp Effort Management AP.

11:30 a.m.-12 noon—The Administrative Policy Committee will meet to discuss the SSC's recommendations on the SEDAR process as well as revisions to the SSC's Operations.

1:30 p.m.-2:30 p.m.—The Mackerel Management Committee will meet to review recommendations from the Joint South Atlantic/Gulf Mackerel Management Committees on king mackerel. The Committee will also discuss revising the framework procedure for the Coastal Migratory Pelagic (CMP) Fishery Management Plan (FMP).

2:30 p.m.-3 p.m.—The Law Enforcement Committee will meet to review and approve the Law Enforcement Advisory Panel's (LEAP) 2007 Operations Plan. The Committee will also receive a presentation on key enforcement cases.

3 p.m.-4 p.m.—The Red Drum Management Committee will review the SEDAR recommendations for assessment and review Gulf states' and the Gulf States Marine Fisheries Commission's assessment actions.

4 p.m.-5 p.m.—The Joint Reef Fish/Mackerel/Red Drum Committees will receive an update on work completed by the contractors on the Aquaculture Amendment. The Committee will discuss initiation of work by the Inter-disciplinary Planning Team (IPT) in 2007.

5 p.m.-5:30 p.m.—The Budget/Personnel Committee will meet to review the Council's operating budget for 2007. A portion of the committee session will be closed to the public to discuss personnel actions.

The committee reports will be presented to the Council for consideration on Wednesday November 15, and on Thursday, November 16, 2006.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: October 25, 2006.
Tracey L. Thompson,
Acting Director, Office of Sustainable Fisheries, National Marine Fisheries Service.

[FR Doc. E6-18092 Filed 10-27-06; 8:45 am]

BILLING CODE 3510-22-S